ENVIRONMENTAL PROTECTION AGENCY

[FRL-9106-7]

Science Advisory Board Staff Office; Notification of a Public Meeting of the Air Quality Modeling Subcommittee Advisory Council on Clean Air Compliance Analysis (Council)

AGENCY: Environmental Protection Agency (EPA).

ACTION: Notice.

SUMMARY: The EPA Science Advisory Board (SAB) Staff Office announces a public meeting of the Air Quality Modeling Subcommittee (AQMS) of the Advisory Council on Clean Air Compliance Analysis (Council). The AQMS, supplemented with additional members from the Council, will review air quality modeling results for scenarios with and without EPA's regulatory programs implemented under the Clean Air Act Amendments of 1990. The air quality modeling work has been developed in support of the Office of Air and Radiation's Second Section 812 Prospective Analysis of the benefits and costs of the Clean Air Act.

DATES: The meeting date is Friday, February 19, 2010, beginning at 8:30 a.m. and ending no later than 5 p.m. (Eastern Time).

ADDRESSES: The public meeting will be held in the Science Advisory Board Conference Center, 1025 F Street, NW., Suite 3705, Washington, DC 20004.

FOR FURTHER INFORMATION CONTACT: Members of the public who wish to obtain further information about this meeting may contact Ms. Stephanie Sanzone, Designated Federal Officer (DFO), EPA Science Advisory Board Staff Office (1400F), U.S. Environmental Protection Agency, 1200 Pennsylvania Avenue, NW., Washington, DC 20460; by telephone/voice mail: (202) 343-9697 or at sanzone.stephanie@epa.gov. General information about the Council may be found on the Council Web site at http://www.epa.gov/advisorycouncilcaa.

SUPPLEMENTARY INFORMATION: Background: Pursuant to the Federal Advisory Committee Act, 5 U.S.C., App. 2 (FACA), notice is hereby given that the Air Quality Modeling Subcommittee (AQMS) of the Advisory Council on Clean Air Compliance Analysis (Council) will hold a public meeting to evaluate draft documents regarding air quality modeling and evaluation of modeling performance analyses to support the Second Prospective Section 812 Benefit-Cost Analysis of the Clean Air Act. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA. The AQMS will provide advice through the Council and will comply with the provisions of FACA and all appropriate SAB Staff Office procedural policies.

Pursuant to Section 812 of the 1990 Clean Air Act Amendments (CAAA), EPA conducts periodic studies to assess benefits and costs of the EPA's regulatory actions under the Clean Air Act. The Council has provided advice on an EPA retrospective study published in 1997 and an EPA prospective study completed in 1999. EPA initiated a second prospective study to evaluate the benefits and costs of EPA Clean Air programs for years 1990—2020. The Council has previously provided advice on the analytical blueprint for this study. EPA's Office of Air and Radiation (OAR) is now nearing completion of the analytical work for the second prospective study. At the February 19, 2010 meeting, the AQMS will review technical documents pertaining to modeling of air quality for seven emissions scenarios: a 1990 baseline simulation; and simulations for 2000, 2010 and 2020 with and without the CAAA. The analyses use the Community Multiscale Air Quality (CMAQ) model to simulate national and regional-scale (Western U.S. and Eastern U.S.) concentrations of ozone and fine particulates (PM2.5).

OAR is requesting that the AQMS review the data choices, methodological choices for analyzing the data, and the overall validity and utility of the estimated changes in air quality conditions between the with-CAAA90 and without-CAAA90 scenarios. The following documents are provided to the AQMS: (1) Second Prospective Analysis of Air Quality in the U.S. Air Quality Modeling. Draft Report, September 30, 2008. Prepared by ICF International for James B. DeMocker, EPA Office of Policy Analysis and Review, and (2) Evaluation of CMAQ Model Performance for the 812 Prospective II Study, Memorandum from Sharon Douglas and Tom Myers, ICF International to Jim DeMocker, EPA Office of Policy Analysis and Review, November 24, 2009.

Technical Contacts: The Office of Air and Radiation technical contact for the Second Section 812 Benefit-Cost Analysis of the Clean Air Act is Mr. Jim DeMocker at (202) 564-1673 or democker.jim@epa.gov.

Availability of Meeting Materials: EPA draft documents provided to the AQMS are available at http://www.epa.gov/oar/sect812/prospective2.html.

The meeting agenda for February 19, 2010 and any background materials will be posted on the SAB Web site (http://www.epa.gov/advisorycouncilcaa) prior to the meeting.

Procedures for Providing Public Input: Interested members of the public may submit relevant written or oral information for the AQMS to consider on the topics of this advisory activity and/or the group conducting the activity. Oral Statements: In general, individuals or groups requesting an oral presentation at a public meeting will be limited to five minutes per speaker, with no more than one hour for all speakers. Interested parties should contact Ms. Sanzone at the contact information provided above by February 10, 2010, to be placed on the public speaker list for the February 19, 2010 meeting. Written Statements: Written statements should be received in the SAB Staff Office by February 10, 2010, so that the information may be made available to the AQMS for their consideration prior to the meeting. Written statements should be supplied to Ms. Sanzone in the following formats: One hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Ms. Sanzone at (202) 343-9697, or via e-mail at sanzone.stephanie@epa.gov, preferably at least ten (10) days prior to the meeting, to give EPA as much time as possible to process your request.

Dated: January 19, 2010.
Vanessa T. Vu,
Director, EPA Science Advisory Board Staff Office.

[FR Doc. 2010-1465 Filed 1-25-10; 8:45 am]

BILLING CODE 6560-50-P